DEPARTMENT OF THE TREASURY

Office of Foreign Assets Control

Unblocking of Specially Designated Nationals and Blocked Persons Pursuant to Executive Order 12978

AGENCY: Office of Foreign Assets Control, Treasury.

ACTION: Notice.

SUMMARY: The Department of the Treasury 's Office of Foreign Assets Control (“OFAC”) is publishing the names of eight individuals whose property and interests in property have been unblocked pursuant to Executive Order 12978 of October 21, 1995, Blocking Assets and Prohibiting Transactions With Significant Narcotics Traffickers.

DATES: The unblocking and removal from the list of Specially Designated Nationals and Blocked Persons (“SDN List”) of the individuals identified in this notice whose property and interests in property were blocked pursuant to Executive Order 12978 of October 21, 1995, is effective on September 1, 2010.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (http://www.treas.gov/ofac) or via facsimile through a 24-hour fax-on demand service at (202) 622-0077.

Background

On October 21, 1995, the President, invoking the authority, inter alia, of the International Emergency Economic Powers Act (50 U.S.C. 1701-1706) (“IEEPA”), issued Executive Order 12978 (60 FR 54579, October 24, 1995) (the “Order”). In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The persons listed in an Annex to the Order; (2) any foreign person determined by the Secretary of Treasury, in consultation with the Attorney General and Secretary of State: (a) To play a significant role in international narcotics trafficking centered in Colombia; or (b) to materially assist in, or provide financial or technological support for or goods or services in support of, the narcotics trafficking activities of persons designated in or pursuant to the Order; and (3) persons determined by the Secretary of the Treasury, in consultation with the Attorney General and the Secretary of State, to be owned or controlled by, or to act for or on behalf of, persons designated pursuant to the Order.

On September 1, 2010 the Director of OFAC removed from the SDN List the eight individuals listed below, whose property and interests in property were blocked pursuant to the Order:

1. MONDRAGON AVILA, Alicia, c/o ALERO S.A., Cali, Colombia; c/o INVERSIONES Y CONSTRUCCIONES COSMOVALLE LTDA., Cali, Colombia; c/o INVERSIETE S.A., Cali, Colombia; c/o INVERSIONES Y DISTRIBUCIONES A M M LTDA., Cali, Colombia; DOB 26 Oct 1936; Cedula No. 29086016 (Colombia) (individual) [SDNT]

2. MUNOZ CORTES, Julio Cesar (a.k.a. MUNOZ CORTEZ, Julio Cesar), c/o COPSERVIR LTDA., Bogota, Colombia; c/o DROGAS LA REBAJA BARRANQUILLA S.A., Barranquilla, Colombia; c/o BLANCO PHARMA S.A., Bogota, Colombia; c/o DROGAS LA REBAJA PRINCIPAL S.A., Bogota, Colombia; c/o DROGAS LA REBAJA CALI S.A., Cali, Colombia; c/o DISTRIBUIDORA DE DROGAS CONDOR LTDA., Bogota, Colombia; DOB 26 Feb 1947; Cedula No. 14938700 (Colombia) (individual) [SDNT]

3. PENALOSA CAMARGO, Diego Hernando, c/o FUNDACION VIVIR MEJOR, Cali, Colombia; Cedula No. 118391 (Colombia); Passport 118391 (Colombia) (individual) [SDNT]

4. RESTREPO CANO, Maria Del Pilar, c/o CHAMARTIN S.A., Cali, Colombia; c/o COPSERVIR LTDA., Bogota, Colombia; c/o DISTRIBUIDORA SANAR DE COLOMBIA S.A., Cali, Colombia; DOB 26 Jun 1965; Cedula No. 31948671 (Colombia); Passport 31948671 (Colombia) (individual) [SDNT]

5. RESTREPO HERNANDEZ, Ruben Dario, c/o DISMERCOOP, Cali, Colombia; c/o LATINFAMRACOS, S.A., Quito, Ecuador; c/o RIONAP COMERCIO Y REPRESENTACIONES S.A., Quito, Ecuador; DOB 28 Sep 1958; Cedula No. 10094108 (Colombia); Passport 10094108 (Colombia); RUC # 1791818652001 (Ecuador) (individual) [SDNT]

6. RODRIGUEZ RAMIREZ, Claudia Pilar, c/o ALERO S.A., Cali, Colombia; c/o INTERAMERICANA DE CONSTRUCCIONES S.A., Cali, Colombia; c/o FARMATODO S.A., Bogota, Colombia; c/o LABORATORIOS BLAIMAR DE COLOMBIA S.A., Bogota, Colombia; c/o DISTRIBUIDORA DE DROGAS CONDOR LTDA., Bogota, Colombia; c/o DISTRIBUIDORA DE DROGAS LA REBAJA S.A., Bogota, Colombia; c/o DISTRIBUIDORA MIGIL LTDA., Cali, Colombia; c/o LABORATORIOS KRESSFOR DE COLOMBIA S.A., Bogota, Colombia; c/o GRACADAL S.A., Cali, Colombia; c/o DEPOSITO POPULAR DE DROGAS S.A., Cali, Colombia; c/o CLAUDIA PILAR RODRIGUEZ Y CIA. S.C.S., Bogota, Colombia; c/o D'CACHE S.A., Cali, Colombia; c/o CREDIREBAJA S.A., Cali, Colombia; c/o BONOMERCAD S.A., Bogota, Colombia; c/o DEFAFARMA S.A., Bogota, Colombia; c/o DIRECCION COMERCIAL Y MARKETING CONSULTORIA EMPRESA UNIPERSONAL, Bogota, Colombia; c/o DROCARD S.A., Bogota, Colombia; c/o INVERSIONES CLAUPI S.L., Madrid, Colombia; DOB 30 Jun 1963; alt.DOB 30 Aug 1963; alt. DOB 1966; Cedula No. 51741013 (Colombia); Passport 007281 (Colombia); alt. Passport P0555266 (Colombia); alt. Passport 51741013 (Colombia) (individual) [SDNT]

7. TRIVINO RODRIGUEZ, Elsa Yaneth, c/o INTERCONTINENTAL DE AVIACION S.A., Bogota, Colombia; c/o AEROCOMERCIAL ALAS DE COLOMBIA LTDA., Bogota, Colombia; c/o ASOCIACION TURISTICA INTERNACIONAL S.C.S., Bogota, Colombia; c/o INTERCONTINENTAL DE FINANCIACION AEREA S.A., Bogota, Colombia; c/o CIA CONSTRUCTORA Y COMERCIALIZADORA DEL SUR LTDA., Bogota, Colombia; c/o GREEN ISLAND S.A., Bogota, Colombia; Cedula No. 20484603 (Colombia) (individual) [SDNT]

8. VARGAS DUQUE, Adriana, c/o COMERCIALIZADORA INTERTEL S.A., Cali, Colombia; c/o DISTRIBUIDORA SANAR DE COLOMBIA S.A., Cali, Colombia; c/o PROSALUD Y BIENESTAR S.A., Cali, Colombia; c/o PROSPECTIVA E.U., Cali, Colombia; DOB 20 May 1974; Cedula No. 66902221 (Colombia); Passport 66902221 (Colombia) (individual) [SDNT]

Dated: September 1, 2010.
Adam J. Szubin,
Director, Office of Foreign Assets Control.

[FR Doc. 2010-22236 Filed 9-7-10; 8:45 am]

BILLING CODE 4810-AL-P